DEPARTMENT OF COMMERCE

International Trade Administration

[A-570-851]

Certain Preserved Mushrooms From the People's Republic of China: Final Results of Antidumping Duty Administrative Review; 2014-2015

AGENCY: Enforcement and Compliance, International Trade Administration, Department of Commerce.

SUMMARY: On November 6, 2015, the Department of Commerce (the Department) published the Preliminary Results of the 2014-2015 administrative review of the antidumping duty order on Certain Preserved Mushrooms from the People's Republic of China.¹ The period of review (POR) is February 1, 2014, through January 31, 2015. This review covers one mandatory respondent, Linyi City Kangfa Foodstuff Drinkable Co., Ltd. (Kangfa). In the Preliminary Results, we determined that Kangfa is not eligible for a separate rate and, therefore is part of the PRC-wide entity. The Department invited interested parties to comment on the Preliminary Results. No parties commented. Accordingly, our final results remain unchanged from the Preliminary Results.

¹ See Certain Preserved Mushrooms from the People's Republic of China: Preliminary Results of Antidumping Duty Administrative Review, and Rescission in Part, 80 FR 68836 (November 6, 2015) (Preliminary Results), and the accompanying Decision Memorandum (Preliminary Decision Memorandum).

DATES: Effective Date: March 10, 2016.

FOR FURTHER INFORMATION CONTACT: Michael J. Heaney or Robert James, AD/CVD Operations, Office VI, Enforcement and Compliance, International Trade Administration, U.S. Department of Commerce, 14th Street and Constitution Avenue NW., Washington, DC 20230; telephone (202) 482-4475 or (202) 482-0649, respectively.

SUPPLEMENTARY INFORMATION:

Background

On November 6, 2015, the Department published the Preliminary Results. We invited interested parties to comment on the Preliminary Results, but no comments were received. Also, as explained in the memorandum from the Acting Assistant Secretary for Enforcement & Compliance, the Department has exercised its authority to toll all administrative deadlines due to the recent closure of the Federal Government. All deadlines in this segment of the proceeding have been extended by four business days. The revised deadline for the final results is now March 11, 2016.²

² See Memorandum to the File from Ron Lorentzen, Acting A/S for Enforcement & Compliance, “Tolling of Administrative Deadlines As a Result of the Government Closure During Sniwstorm Jonas” dated January 27, 2016.

Scope of the Order

The products covered by this order are certain preserved mushrooms, whether imported whole, sliced, diced, or as stems and pieces. The certain preserved mushrooms covered under this order are the species Agaricus bisporus and Agaricus bitorquis. “Certain Preserved Mushrooms” refers to mushrooms that have been prepared or preserved by cleaning, blanching, and sometimes slicing or cutting. These mushrooms are then packed and heated in containers including, but not limited to, cans or glass jars in a suitable liquid medium, including, but not limited to, water, brine, butter or butter sauce. Certain preserved mushrooms may be imported whole, sliced, diced, or as stems and pieces. Included within the scope of this order are “brined” mushrooms, which are presalted and packed in a heavy salt solution to provisionally preserve them for further processing.³

³ On June 19, 2000, the Department affirmed that “marinated,” “acidified,” or “pickled” mushrooms containing less than 0.5 percent acetic acid are within the scope of the antidumping duty order. See Recommendation Memorandum-Final Ruling of Request by Tak Fat, et al. for Exclusion of Certain Marinated, Acidified Mushrooms from the Scope of the Antidumping Duty Order on Certain Preserved Mushrooms from the People's Republic of China,” dated June 19, 2000. On February 9, 2005, the United States Court of Appeals for the Federal Circuit upheld this decision. See Tak Fat v. United States, 396 F.3d 1378 (Fed. Cir. 2005).

Excluded from the scope of this order are the following: (1) All other species of mushroom, including straw mushrooms; (2) all fresh and chilled mushrooms, including “refrigerated” or “quick blanched mushrooms;” (3) dried mushrooms; (4) frozen mushrooms; and (5) “marinated,” “acidified,” or “pickled” mushrooms, which are prepared or preserved by means of vinegar or acetic acid, but may contain oil or other additives.

The merchandise subject to this order is classifiable under subheadings: 2003.10.0127, 2003.10.0131, 2003.10.0137, 2003.10.0143, 2003.10.0147, 2003.10.0153, and 0711.51.0000 of the Harmonized Tariff Schedule of the United States (HTSUS). Although the HTSUS subheadings are provided for convenience and Customs purposes, the written description of the scope of this order is dispositive.

Final Determination of No Shipments

In the Preliminary Results, we preliminarily determined that (1) the exporter/producer combination of Dezhou Kaihang Agricultural Science Technology Co., Ltd. (Dezhou Kaihang)/Fujian Haishan Foods Co., Ltd. (Fengyu); (2) the exporter/producer combination of Fujian Haishan Foods Co., Ltd. (Fujian Haishan)/Zhangzhou Hongda Import & Export Trading Co., Ltd. (Hongda); (3) Guangxi Jisheng Foods, Inc. (Guangxi Jisheng), (4) Xiamen International Trade & Industrial Co., Ltd. (XITIC); and (5) Zhangzhou Gangchang Canned Foods Co., Ltd. (Gangchang) did not have any reviewable entries during the POR. In particular, we found that (1) Dezhou Kaihang/Fengyu, (2) Fujian Haishan/Hongda, (3) Guangxi Jisheng, (4) XITIC and (5) Gangchang all submitted timely certifications of no shipments, entries, or sales of subject merchandise during the POR and we did not receive any information from U.S. Customs and Border Protection (CBP) indicating there were reviewable entries for those companies during the POR.

Consistent with the Department's assessment practice in non-market economy cases, we stated in the Preliminary Results that the Department would not rescind the review in these circumstances but, rather, would complete the review with respect to Dezhou Kaihang/Fengyu, Fujian Haishan/Hongda, Guangxi Jisheng, XITIC, and Gangchang and issue appropriate instructions to CBP based on the final results of the review.⁴ We did not receive any comments following our Preliminary Results with respect to this issue. As such, in these final results, we continue to determine that Dezhou Kaihang/Fengyu, Fujian Haishan/Hongda, Guangxi Jisheng, XITIC, and Gangchang had no reviewable entries of subject merchandise during the POR.

⁴ See Preliminary Results, 80 FR at 68837.

Final Results of Review

In our Preliminary Results, we found that mandatory respondent Kangfa failed to establish its eligibility for a separate rate and preliminarily determined to treat Kangfa as part of the PRC‐wide entity.⁵ We also found that the remaining 51 exporters subject to this review did not establish their eligibility for separate rate status and that they were, thus, part of the PRC-wide entity.

⁵ See id. at 68838.

No parties commented on these Preliminary Results. Therefore, in these final results, we continue to determine that all 51 of these exporters are part of the PRC-wide entity. Each of these entities are listed in the attached Appendix. Because no party requested a review of the PRC-wide entity and the Department no longer considers the PRC-wide entity as an exporter conditionally subject to administrative reviews, we did not conduct a review of the PRC-wide entity, and the entity's rate is not subject to change in this review.⁶

⁶ See Antidumping Proceedings: Announcement of Change in Department Practice for Respondent Selection in Antidumping Duty Proceedings and Conditional Review of the Nonmarket Economy Entity in NME Antidumping Duty Proceedings, 78 FR 65963 (November 4, 2013).

Assessment Rates

Pursuant to section 751(a)(2)(C) of the Tariff Act of 1930, as amended (the Act) and 19 CFR 351.212(b), the Department has determined, and CBP shall assess, antidumping duties on all appropriate entries of subject merchandise covered by this review. The Department intends to issue assessment instructions to CBP 15 days after the date of publication of these final results of review. The Department intends to instruct CBP to liquidate entries of subject merchandise from the exporters identified above as being part of the PRC-wide entity (including Kangfa) at the PRC-wide rate, i.e., 308.33 percent.

Pursuant to a refinement in the Department's practice, if the Department determines that an exporter had no shipments of the subject merchandise, any suspended entries that entered under that exporter's case number (i.e., at that exporter's rate) will be liquidated at the PRC-wide rate.⁷ As noted above, the Department determines that Dezhou Kaihang/Fengyu, Fujian Haishan/Hongda, Guangxi Jisheng, XITIC, and Gangchang did not have any reviewable transactions during the POR. As a result, any suspended entries that entered under these exporters' case numbers will be liquidated at the PRC-wide rate.

⁷ See Non-Market Economy Antidumping Proceedings: Assessment of Antidumping Duties, 76 FR 65694 (October 24, 2011).

Cash Deposit Requirements

The following cash deposit requirements will be effective for all shipments of subject merchandise entered, or withdrawn from warehouse, for consumption on or after the publication date of the final results of this administrative review, as provided by section 751(a)(2)(C) of the Act: (1) For previously investigated or reviewed PRC and non-PRC exporters which are not under review in this segment of the proceeding but received a separate rate in a previous segment, the cash deposit rate will continue to be the exporter-specific rate published for the most recently-completed period; (2) for all PRC exporters of subject merchandise which have not been found to be entitled to a separate rate, the cash deposit rate will be that for the PRC-wide entity (i.e., 308.33 percent); and (3) for all non-PRC exporters of subject merchandise which have not received their own rate, the cash deposit rate will be the rate applicable to the PRC exporter(s) that supplied the non-PRC exporter. These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Notification Regarding Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

We are issuing and publishing these results and this notice in accordance with sections 751(a)(1) and 777(i) of the Act.

Dated: March 4, 2016.
Paul Piquado,
Assistant Secretary for Enforcement and Compliance.

Appendix

Companies Included in the PRC Wide Entity

The PRC Entity includes the following 51 entities: (1) Agrogentra & Co., Ltd., (2) Ayecue (Liaocheng) Foodstuff Co., Ltd, (3) Blue Field (Sichuan) Food Industrial Co., Ltd., (4) Casia Global Logistics Co., Ltd., (5) Changzhou Chen Rong- Da Carpet Co., Ltd., (6) China National Cereals, Oils & Foodstuffs Import & Export Corp., (7) China Processed Food Import & Export Co., (8) DHL ISC (Hong Kong) Limited, (9) Dujiangyan Xingda Foodstuff Co., Ltd., (10) Fujian Blue Lake Foods Co., Ltd., (11) Fujian Golden Banyan Foodstuffs Industrial Co., Ltd., (12) Fujian Pinghe Baofeng Canned Foods, (13) Fujian Yuxing Fruits and Vegetables Foodstuffs Development Co., Ltd., (14) Fujian Zishan Group Co., Ltd., (15) Guangxi Eastwing Trading Co., Ltd., (16) Guangxi Hengyang Industrial & Commercial Dev., Ltd., (17) Guangxi Hengyong Industrial & Commercial Dev. Ltd., (18) Inter-Foods (Dongshan) Co., Ltd., (19) Jiangxi Cereal Oils Foodstuffs, (20) Joy Foods (Zhangzhou) Co., Ltd., (21) Kangfa, (22) Longhai Guangfa Food Co., Ltd., (23) Primera Harvest (Xiangfan) Co., Ltd., (24) Shandong Jiufa Edible Fungus Corporation, Ltd., (25) Shandong Xinfa Agricultural Science Corporation Ltd., (26) Shandong Yinfeng Rare Fungus Corporation, Ltd., (27) Shenzhen Syntrans International Logistics Co., Ltd., (28) Sun Wave Trading Co., Ltd., (29) Sunrise Food Industry & Commerce, (30) Shouguang Sunrise Industry & Commerce Co., Ltd., (31) Thuy Duong Transport And Trading Service JSC, (32) Tianjin Fulida Supply Co., Ltd., (33) Xiamen Aukking Imp. & Exp. Co., Ltd., (34) Xiamen Carre Food Co., Ltd., (35) Xiamen Choice Harvest Imp., (36) Xiamen Greenland Import & Export Co., Ltd., (37) Xiamen Gulong Import & Export Co., Ltd., (38) Xiamen Huamin Imp. & Exp. Co., Ltd., (39) Xiamen Jiahua Import & Export Trading Co., Ltd., (40) Xiamen Longhuai Import & Export Co., Ltd., (41) Xiamen Longhuai Imp. & Exp. Co., Ltd., (42) Xiamen Longstar Lighting Co., Ltd., (43) Xiamen Sungiven Import & Export Co., Ltd., (44) Zhangzhou Golden Banyan Foodstuffs Industrial Co., Ltd., (45) Zhangzhou Long Mountain Foods Co., Ltd., (46) Zhangzhou Longhai Minhui Industry & Trade Co., Ltd., (47) Zhangzhou Tan Co., Ltd., (48) Zhangzhou Tongfa Foods Industry Co., Ltd., (49) Zhangzhou Yuxing Imp. & Exp. Trading Co., Ltd., (50) Zhejiang Iceman Food Co., Ltd., and (51) Zhejiang Iceman Group Co., Ltd.

[FR Doc. 2016-05409 Filed 3-9-16; 8:45 am]

BILLING CODE 3510-DS-P